DEPARTMENT OF TRANSPORTATION

National Highway Traffic Safety Administration

[NHTSA-2005-23090]

Amendments to Highway Safety Program Guidelines

AGENCY: National Highway Traffic Safety Administration (NHTSA), DOT.

ACTION: Extension of comment period for proposed amendments to highway safety guidelines.

SUMMARY: This document extends the comment period for proposed amendments to six (6) highway safety guidelines published on February 9, 2006 (71 FR 6830). The comment due date was March 13, 2006.

In a letter dated February 22, 2006, the Motorcycle Riders Foundation asked NHTSA for an extension of this due date. This document grants that request and extends the comment due date for the proposed highway safety guidelines to March 27, 2006.

DATES: The due date for comments on DOT Docket No. NHTSA-2005-23090 is extended to March 27, 2006.

ADDRESSES: You may submit your comments in writing to: Docket Management, Room PL-401, 400 Seventh Street, SW., Washington, DC 20590. Alternatively, you may submit your comments electronically by logging onto the Docket Management System Web site at http://dms.dot.gov. Click on “Help & Information” or “Help/Info” to view instructions for filing your comments electronically. Regardless of how you submit your comments, you should mention the docket number of this document.

You may call the Docket at 202-366-9324. You may visit the Docket from 10 a.m. to 5 p.m., Monday through Friday, except for Federal holidays.

FOR FURTHER INFORMATION CONTACT: The following person at the National Highway Traffic Safety Administration, 400 Seventh Street, SW., Washington, DC 20590: Julie Ross, Program Development and Delivery, NTI-100, telephone (202) 366-9895, facsimile: (202) 366-7149.

SUPPLEMENTARY INFORMATION: On February 9, 2006 (71 FR 6830), NHTSA published a notice requesting comments on proposed amendments to six (6) existing highway safety guidelines: Guideline No. 3 Motorcycle Safety, Guideline No. 8 Impaired Driving, Guideline No. 14 Pedestrian and Bicycle Safety, Guideline No. 15 Traffic Enforcement Services (formerly Police Traffic Services), Guideline No. 19 Speed Management (formerly Speed Control), and Guideline No. 20 Occupant Protection.

Section 402 of title 23 of the United States Code requires the Secretary of Transportation to promulgate uniform guidelines for State highway safety programs. As the highway safety environment changes, it is necessary for NHTSA to update the guidelines to provide current information on effective program content for States to use in developing and assessing their traffic safety programs. Each of the proposed revised guidelines reflects the sound science and the experience of States in traffic safety program content. NHTSA updates the guidelines periodically to reflect new issues and to emphasize program methodology and approaches that have proven to be highly effective in these program areas.

The guidelines offer direction to States in formulating their highway safety plans for highway safety efforts that are supported with Section 402 grant funds. The guidelines provide a framework for developing a balanced highway safety program and serve as a tool with which States can assess the effectiveness of their own programs. NHTSA encourages States to use the guidelines and build upon them to optimize the effectiveness of highway safety programs conducted at the State and local level. The revised guidelines will emphasize areas of national concern and highlight effective countermeasures.

The February 9, 2006 notice announced a comment due date of March 13, 2006. In a letter dated February 22, 2006, the Motorcycle Riders Foundation asked NHTSA for an extension of this due date. Although the letter did not indicate a specific length for the requested extension, the explanation for the requested extension was that “the motorcycling community should have more than thirty three calendar days to dissect and address all of the eleven recommendations put forth in the Federal Register on February 9th, 2006.” We interpret the reference to the “eleven recommendations” to apply to the eleven (11) subparts of the proposed revised motorcycle safety guideline.

After considering the request for additional time to consider the proposed motorcycle safety guideline, NHTSA has decided that it is in the public interest to grant the request. In granting this request, the agency is mindful that early publication of the revised highway safety guidelines is important in light of the new motorcyclist safety grant program authorized in section 2010 of the Safe, Accountable, Flexible, Efficient Transportation Equity Act: A Legacy for Users (SAFETEA-LU), Pub. L. 109-59. Therefore, NHTSA extends until March 27, 2006 the closing date for submission of comments for all six (6) proposed highway safety guidelines published on February 9, 2006. To the extent possible, comments filed after this extended closing date will also be considered. However, the final guidelines may be published at any time after that date. The agency will continue to file relevant material in the docket as it becomes available after the closing date, and it is recommended that interested persons continue to examine the docket for new material.

Issued on: February 27, 2006.
Brian M. McLaughlin,
Senior Associate Administrator for Traffic Injury Control.

[FR Doc. E6-3007 Filed 3-1-06; 8:45 am]

BILLING CODE 4910-59-P